DEPARTMENT OF DEFENSE

Department of the Navy

Notice of Availability for Donation as a Museum/Memorial, Submarine ex-DOLPHIN (AGSS-555)

AGENCY: Department of the Navy, DoD.

ACTION: Notice.

SUMMARY: The Department of the Navy (DON) hereby gives notice of the availability for donation, under the authority of 10 U.S.C. Sect. 7306, of the diesel-powered submarine ex-DOLPHIN (AGSS-555), for use as a static museum/memorial for public display. The ex-DOLPHIN was decommissioned and struck from the Naval Vessel Register on January 15, 2007, and is located in San Diego, CA, its historic homeport. It is in the best interest of the Government to limit consideration of potential donees to entities that will provide permanent berthing in San Diego for public display of ex-DOLPHIN, thus recognizing the submarine's service in its historic homeport, while avoiding the DON's need to move the vessel to another location pending completion of the donation process. Eligible recipients include: (1) Any State, Commonwealth, or possession of the United States, or any municipal corporation or political subdivision thereof; (2) the District of Columbia; or (3) any organization incorporated as a non-profit entity under section 501 of the Internal Revenue Code that will provide permanent berthing and display the vessel in San Diego.

The transfer of a vessel for donation under 10 U.S.C. Sect. 7306 shall be made at no cost to the United States Government. The donee will be required to maintain the vessel as a static display in a condition that is satisfactory to the Secretary of the Navy.

A letter of intent will be required within 30 days from the date of this notice and all donation applications must be received within six months from the date of this notice. The DON will foreclose consideration of donation of ex-DOLPHIN to any entity that does not submit a letter of intent to the DON within 30 days of the date of this notice.

Prospective donees must submit a letter of intent to the Navy Inactive Ships Program office within 30 days of this Federal Register notice. The letter of intent must:

a. Identify the specific vessel sought for donation;

b. Include a statement of the proposed use for the vessel;

c. Identify the proposed permanent berthing location;

d. If the applicant is not a State, commonwealth, or possession of the United States, or a political subdivision or municipal corporation thereof, or the District of Columbia, it must provide a copy of a determination letter by the Internal Revenue Service that the applicant is exempt from tax under the Internal Revenue Code, or submit evidence that the applicant has filed the appropriate documentation in order to obtain tax exempt status;

e. If the applicant asserts that it is a corporation or association whose charter or articles of agreement denies it the right to operate for profit, it must provide a properly authenticated copy of the charter, certificate of incorporation, and a copy of the organization's by-laws;

f. Provide a notarized copy of the resolution or other action of the applicant's governing board authorizing the person signing the application to represent the organization and to sign on its behalf for the purpose of obtaining a vessel; and

g. Provide written affirmation that the prospective donee can submit a complete ship donation application to the DON, compliant with the DON application requirements, within six months of this Federal Register notice.

Upon receipt of the letter of intent, the DON will contact the prospective donee(s) to ensure a full understanding of the application requirements, which are located at http://www.navsea.navy.mil/NDP.

Qualified organizations who submit a letter of intent for ex-DOLPHIN (AGSS-555) must submit a complete application to the DON within six months of this notice, comprised of a business/financial plan, a technical plan (includes a towing plan, mooring plan, maintenance plan, and environmental plan), a curatorial/museum plan, and a community support plan (includes information concerning support from the community and benefit to the Navy). The application must address the following areas:

a. Business/Financial Plan: The Business/Financial Plan must detail the estimated start-up and operating costs, and provide detailed evidence of firm financing adequate to cover these costs. Start-up costs include towing, mooring (this includes but not limited to the cost of acquiring and improving facilities, and dredging if required), ship restoration, museum development, and meeting environmental requirements (including permitting fees and expenses). Operating costs are those costs associated with operating and maintaining the vessel as a museum/memorial, including rent, utilities, personnel, insurance, periodic dry-docking, etc. Firm financing means available funding to ensure the first five years of operation and future stability for long-term operation. This can include pledges, loans, gifts, bonds (except revenue bonds), funds on deposit at a financial institution, or any combination of the above. The applicant must also provide income projections from sources such as individual and group admissions, facility rental fees and gift shop revenues sufficient to cover the estimated operating expenses.

b. Technical: The technical plan is comprised of a Towing Plan, Mooring Plan, Maintenance Plan, and Environmental Plan.

The Towing Plan describes how the vessel will be prepared for tow and safely towed from its present location to the permanent display site proposed by the applicant. The Towing Plan must include a completed draft checklist of applicable requirements based on Appendix H of the U.S. Navy Tow Manual, which can be found at http://www.supsalv.org/pdf/towman.pdf.

The Mooring Plan describes how the vessel will be secured at its permanent display site during normal and extreme weather conditions (including the 100-year storm event) to prevent damage to the vessel, its mooring system, the pier, and surrounding facilities. It will also provide evidence of availability of a facility for permanent mooring of the vessel, either by ownership, existing lease, or by letter from the facility owners indicating a statement of intent to utilize such facilities. It must also address any requirement to obtain site-specific permits and/or municipal approvals required for the facility, to include but not limited to, Port Authority and Army Corps of Engineers approvals/permits, where required. The mooring location must be acceptable to the DON and not obstruct or interfere with navigation.

The Environmental Plan describes how the applicant will comply with all Federal, State, and local environmental and public health and safety regulations and permit requirements. The applicant must also provide information necessary for the Navy to complete an environmental assessment of the Donation as required by the National Environmental Policy Act, including the impact of the Donation on the natural and man-made environment, local infrastructure, and evaluation of the socio-economic consequences of the donation.

The Maintenance Plan must describe plans for long-term and short-term maintenance of the vessel, including preservation and periodic maintenance schedule, underwater hull inspections, emergency response and fire/flood/intrusion control, pest control, security, periodic dry-docking, and the qualifications of the maintenance team.

c. The Curatorial/Museum Plan includes two parts: A Curatorial Plan and a Historic Management Plan. The Curatorial Plan must describe the qualifications for a professional curator (and curator staff, if necessary). The plan must also describe how the museum will collect and manage artifacts, including a statement of purpose and description of access, authority, and collection management responsibilities. The Historic Management Plan must describe how the museum will display the vessel and exhibits, including a description of the historical context of the ship, vessel restoration plans, historical subject matter that will be displayed with the vessel, and exhibit display plans.

d. The Community Support Plan must include evidence of local support. Evidence of regional support should also be provided. This includes letters of endorsement from adjacent communities and counties, cities or States. Also describe how the location of the vessel will encourage public visitation and tourism, become an integral part of the community, and how the vessel will enhance community development. The Community Support Plan must also describe the benefit to the DON, including but not limited to, addressing how the prospective donee may support DON recruiting efforts, the connection between the Navy and the proposed berthing location, how veterans associations in the area are willing to support the vessel, how the prospective donee will honor veterans' contributions to the United States, and how the exhibit will commemorate those contributions and showcase Naval traditions.

The relative importance of each area that must be addressed in the Donation application is as follows: Business/Financial Plan and Technical Plan are the most important criteria and are equal in importance. Within the Technical Plan, the Mooring Plan is of greatest importance, and the Towing Plan, Maintenance Plan, and Environmental Plan are individually of equal importance but of lesser importance to the Mooring Plan. The Curatorial/Museum Plan and Community Support Plan are of equal importance, but of lesser importance than the aforementioned plans.

Evaluation of the application(s) will be performed by the Navy to ensure the application(s) are compliant with the minimum acceptable application criteria and requirements. In the event of multiple compliant applications, the DON will perform a comparative evaluation of the applications to determine the best-qualified applicant. The adjectival ratings to be used for each criterion include: Outstanding, Good, Satisfactory, Marginal, and Unsatisfactory. The Secretary of the Navy, or his designee, will make the final Donation decision.

Additional information concerning the application process and requirements are found on the DON Ship Donation Web site, http://www.navsea.navy.mil/ndp. The complete application must be submitted in hard copy and electronically on a CD to the Navy Inactive Ships Program office within six months of this Federal Register notice. In the absence of a viable donation application, the DON reserves the right to remove ex-DOLPHIN from donation consideration and proceed with disposal of the vessel.

FOR FURTHER INFORMATION AND SUBMISSION OF SHIP DONATION APPLICATIONS, CONTACT: Commander, Program Executive Office Ships (PEO SHIPS), PMS333, Navy Inactive Ships Program, ATTN: Ms. Gloria Carvalho (PMS 333G), c/o Columbia Research Corp., 1201 M Street, SE., Suite 010, Washington, DC 20003, telephone number 202-781-0485.

Dated: January 24, 2007.
M.A. Harvison,
Lieutenant Commander, Judge Advocate General's Corps, U.S. Navy, Federal Register Liaison Officer.

[FR Doc. E7-1497 Filed 1-30-07; 8:45 am]

BILLING CODE 3810-FF-P